DEPARTMENT OF TRANSPORTATION

Federal Aviation Administration

[Summary Notice No. PE-2003-74]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, Sandy Buchanan-Sumter (202) 267-7271, or Denise Emrick (202) 267-5174, Office of Rulemaking (ARM-1), Federal Aviation Administration, 800 Independence Avenue, SW., Washington, DC 20591.

This notice is published pursuant to 14 CFR 11.85 and 11.91.

Issued in Washington, DC on December 10, 2003.
Donald P. Byrne,
Assistant Chief Counsel for Regulations.

Dispositions of Petitions

Docket No.: FAA-2003-15749.

Petitioner: Qantas Airways, Ltd.

Section of 14 CFR Affected: 14 CFR 145.45(f).

Description of Relief Sought/Disposition: To permit Qantas Airways, Ltd., to make its inspection procedures manual available to its supervisory, inspection, and other relevant personnel rather than give an individual copy to each of its supervisory and inspection personnel. Grant, 11/12/2003 , Exemption No. 8173.

Docket No.: FAA-2003-16532.

Petitioner: Avigate, LLC.

Section of 14 CFR Affected: 14 CFR 135.143(c)(2).

Description of Relief Sought/Disposition: To permit Avigate, LLC, to operate certain aircraft under part 135 without a TSO-C112 (Mode S) transponder installed in those aircraft. Grant, 11/21/2003, Exemption No.8179.

Docket No.: FAA-2003-16486.

Petitioner: CJPJ Associates, Inc.

Section of 14 CFR Affected: 14 CFR 135.143(c)(2).

Description of Relief Sought/Disposition: To permit CJPJ Associates, Inc., to operate certain aircraft under part 135 without a TSO-C112 (Mode S) transponder installed in those aircraft. Grant, 11/21/2003, Exemption No. 8178.

Docket No.: FAA-2002-12137.

Petitioner: Rockwell Collins, Inc.

Section of 14 CFR Affected: 14 CFR 21.327(a).

Description of Relief Sought/Disposition: To permit Rockwell Collins, Inc., to use a printout from its Order Management System for a Class II product instead of the Application for Export Certificate of Airworthiness. Grant, 11/20/2003, Exemption No. 6604D.

Docket No.: FAA-2001-9142.

Petitioner: Honeywell International, Inc., Engines, Systems, and Services.

Section of 14 CFR Affected: 14 CFR 21.325(b)(3).

Description of Relief Sought/Disposition: To permit Honeywell International, Inc., Engines, Systems, and Services to issue export airworthiness approval tags for class II and class III products manufactured at Honeywell's Singapore facility. Grant, 11/17/2003, Exemption No. 7075C.

Docket No.: FAA-2003-16196.

Petitioner: Alaska Air Carriers Association.

Section of 14 CFR Affected: 14 CFR 43.3(g), 121.709(b)(3), and 135.443(b)(3).

Description of Relief Sought/Disposition: To permit certificated and appropriately trained pilots employed by an Alaska Air Carriers Association-member airline to remove and reinstall passenger seats in aircraft type certificated for 10 to 19 passengers. Grant, 11/12/2003, Exemption No. 8176.

Docket No.: FAA-2003-16403.

Petitioner: PSA Airlines, Inc.

Section of 14 CFR Affected: 14 CFR 121.434(c)(1)(ii).

Description of Relief Sought/Disposition: To permit PSA Airlines, Inc., to substitute a qualified and authorized check airman in place of an FAA inspector to observe a qualifying pilot in command while that pilot in command is performing prescribed duties during at least one flight leg that includes a takeoff and landing when completing or upgrading training as specified in § 121.424. Grant, 11/14/2003, Exemption No. 8175.

Docket No.: FAA-2003-16435.

Petitioner: Quest Aviation, Inc.

Section of 14 CFR Affected: 14 CFR 135.143(c)(2).

Description of Relief Sought/Disposition: To permit Quest Aviation, Inc., to operate certain aircraft under part 135 without a TSO-C112 (Mode S) transponder installed in those aircraft. Grant, 11/13/2003, Exemption No. 8172.

Docket No.: FAA-2001-9441.

Petitioner: Bombardier Services Corporation.

Section of 14 CFR Affected: 14 CFR 145.45(f).

Description of Relief Sought/Disposition: To permit Bombardier Services Corporation to assign copies of its inspection procedures manual (IPM) to key individuals within departments and to strategically place an adequate number of IPMs for access by all employees, rather than giving a copy of the IPM to all supervisory and inspection personnel. Grant, 11/12/2003, Exemption No. 8171.

Docket No.: FAA-2001-10169.

Petitioner: The Boeing Company.

Section of 14 CFR Affected: 14 CFR 145.45(f).

Description of Relief Sought/Disposition: To permit the Boeing Company to give copies of its inspection procedures manual (IPM) to key individuals and make the IPM available electronically to all other employees, rather than give a paper copy of the IPM to each of its supervisory and inspection personnel. Grant, 11/12/2003, Exemption No. 7065B.

Docket No.: FAA-2003-15806.

Petitioner: Ameristar Air Cargo, Inc.

Section of 14 CFR Affected: 14 CFR 47.49 and 91.203(a) and (b).

Description of Relief Sought/Disposition: To permit Ameristar Air Cargo, Inc., to operate its U.S.-registered aircraft in domestic operations temporarily following the incidental loss or mutilation of that aircraft's airworthiness certificate or registration certificate, or both. Grant, 9/4/2003, Exemption No. 8127.

Docket No.: FAA-2003-15862.

Petitioner: John Drew Atkin, IV.

Section of 14 CFR Affected: 14 CFR 91.109(a).

Description of Relief Sought/Disposition: To permit John Drew Atkin, IV, to conduct certain flight training in certain Beechcraft Bonanza/Debonair airplanes that are equipped with a functioning throw-over control wheel. Grant, 9/4/2003, Exemption No. 8126.

Docket No.: FAA-2003-16009.

Petitioner: Richard E. Druschel. Section of 14 CFR Affected: 14 CFR 91.109(a) and (b)(3).

Description of Relief Sought/Disposition: To permit Richard E. Druschel to conduct certain flight training and to provide simulated instrument experience in certain Beech airplanes that are equipped with a functioning throw-over control wheel. Grant, 9/4/2003, Exemption No.8125.

Docket No.: FAA-2001-11253.

Petitioner: TykeTube Industries, Inc.

Section of 14 CFR Affected: 14 CFR 91.107(a)(3)(i), (iii)(B), and (iii)(C)(3), 121.311(b)(1), (b)(2)(ii), (b)(2)(iii)(C), and (c), 125.211(b)(1), (b)(2)(ii), (b)(2)(iii)(C), and (c), and 135.128(a)(1), (a)(2)(ii), (a)(2)(iii)(C), and (b).

Description of Relief Sought/Disposition: To permit any person who operates any aircraft, and any person aboard any U.S.-registered civil aircraft to use TykeTube's onboard child restraint system that is not manufactured to U.S. standards, does not conform to all applicable Federal motor vehicle safety standards, and is not certified for use in motor vehicles and aircraft; and has not been accepted by the FAA during all phases of flight, including critical phase of flight. Denial, 9/5/2003, Exemption No.8130.

Docket No.: FAA-2001-10798.

Petitioner: Michelin Aircraft Tire Corporation.

Section of 14 CFR Affected: 14 CFR 21.325(b)(3).

Description of Relief Sought/Disposition: To permit the Michelin Aircraft Tire Corporation to issue U.S. export airworthiness approvals for aircraft tires manufactured and located at their Nong Khae, Thailand facility. Grant, 9/8/2003, Exemption No.7099D.

Docket No.: FAA-2001-10918.

Petitioner: The Goodyear Tire and Rubber Company.

Section of 14 CFR Affected: 14 CFR 21.325(b)(3).

Description of Relief Sought/Disposition: To permit the Goodyear Tire and Rubber Company to issue export airworthiness approvals for aircraft tires manufactured and located at their Thailand facility under Technical Standard Order TSO-C62D. Grant, 9/8/2003, Exemption No. 6682F.

Docket No.: FAA-2003-15175.

Petitioner: TACA International Airlines, S.A.

Section of 14 CFR Affected: 14 CFR 61.58(b) and (c).

Description of Relief Sought/Disposition: To permit TACA International Airlines, S.A., to rely upon completion of International Civil Aviation Organization-approved proficiency checks to satisfy FAA requirements. Additionally it would allow U.S.-licensed pilots in command to be included under § 61.58(b) and (c). Denial, 9/10/2003, Exemption No.8129.

Docket No.: FAA-2002-11286.

Petitioner: Vintage Flying Museum.

Section of 14 CFR Affected: 14 CFR 91.315, 119.21(a), and 119.5(g).

Description of Relief Sought/Disposition: To permit the Vintage Flying Museum to operate its Boeing B-17G for the purpose of carrying passengers for compensation or hire on local flights for educational and historical purposes. Grant, 9/12/52003, Exemption No. 7411B.

Docket No.: FAA-2000-8468.

Petitioner: Yankee Air Force, Inc.

Section of 14 CFR Affected: 14 CFR 91.315, 119.5(g), and 119.21(a).

Description of Relief Sought/Disposition: To permit the Yankee Air Force to operate its B-25 and Boeing B-17 for the purpose of carrying passengers for compensation or hire on local flights for educational and historical purposes. Grant, 9/12/2003, Exemption No. 6631E.

Docket No.: FAA-2001-12484.

Petitioner: Dynamic Aviation.

Section of 14 CFR Affected: 14 CFR 137.53(c)(2).

Description of Relief Sought/Disposition: To permit pilots employed by Dynamic Aviation to conduct aerial applications of insecticides or pheromones from aircraft not equipped with a load jettisoning system. Grant, 9/15/2003, Exemption No. 7827C.

Docket No.: FAA-2002-11965.

Petitioner: Executive Jet Management, Inc.

Section of 14 CFR Affected: 14 CFR 61.3(a) and (c).

Description of Relief Sought/Disposition: To permit Executive Jet Management, Inc., pilots to operate aircraft, on a temporary basis, without their pilot and medical certificates in their physical possession or readily accessible in the aircraft. Denial, 9/15/2003, Exemption No. 8131.

Docket No.: FAA-2003-15251.

Petitioner: The North American Powered Parachute Association, Inc.

Section of 14 CFR Affected: 14 CFR 61.3(a) and 61.31(c) and (d)(1).

Description of Relief Sought/Disposition: To provide a means to establish training and pilot certification requirements for powered parachutes and would permit persons to operate and provide training in an FAA-certificated powered parachute without a pilot certificate or rating for that aircraft. Denial, 9/17/2003, Exemption No. 8132.

Docket No.: FAA-2001-10283.

Petitioner: TBM, Inc., and Butler Aircraft Company.

Section of 14 CFR Affected: 14 CFR 91.529(a)(1).

Description of Relief Sought/Disposition: To permit the Butler Aircraft Company to operate its McDonnell Douglas DC-6 and DC-7 airplanes without a flight engineer during flightcrew training, ferry operations, and test flights that are conducted to prepare for firefighting operations carried out under part 137. Grant, 9/17/2003, Exemption No. 2989L.

Docket No.: FAA-2003-16068.

Petitioner: Intricate Bay Air Services.

Section of 14 CFR Affected: 14 CFR 135.143(c)(2).

Description of Relief Sought/Disposition: To permit Intricate Bay Air Services to operate certain aircraft under part 135 without a TSO-C112 (Mode S) transponder installed in those aircraft. Grant, 9/22/2003, Exemption No. 8134.

Docket No.: FAA-2003-16067.

Petitioner: Corporate Air.

Section of 14 CFR Affected: 14 CFR 135.143(c)(2).

Description of Relief Sought/Disposition: To permit Corporate Air to operate certain aircraft under part 135 without a TSO-C112 (Mode S) transponder installed in those aircraft. Grant, 9/22/2003, Exemption No. 8133

Docket No.: FAA-2001-10364.

Petitioner: Grand Aire Operations, Inc.

Section of 14 CFR Affected: 14 CFR 135.143(c)(2).

Description of Relief Sought/Disposition: To permit Grand Aire Operations, Inc., to operate certain aircraft under part 135 without a TSO-C112 (Mode S) transponder installed in those aircraft. Grant, 9/22/2003, Exemption No. 6723C.

Docket No.: FAA-2001-11177.

Petitioner: Hawaiian Airlines.

Section of 14 CFR Affected: 14 CFR 121.433(c)(1)(iii), 121.441(a)(1) and (b)(1), and appendix F to part 121.

Description of Relief Sought/Disposition: To permit Hawaiian Airlines to conduct an annual single-visit training program for its pilots. Grant, 9/25/2003, Exemption No. 7108B.

Docket No.: FAA-2003-16242.

Petitioner: Albuquerque International Balloon Fiesta, Inc.

Section of 14 CFR Affected: 14 CFR 61.56.

Description of Relief Sought/Disposition: To permit foreign pilots to act as pilot in command without accomplishing a flight review, given in an aircraft for which that pilot is rated, by an authorized instructor during the Albuquerque International Balloon Fiesta. Grant, 9/26/2003, Exemption No. 8135.

Docket No.: FAA-2003-16242.

Petitioner: Albuquerque International Balloon Fiesta, Inc.

Section of 14 CFR Affected: 14 CFR 61.56.

Description of Relief Sought/Disposition: To permit foreign pilots to act as pilot in command without accomplishing a flight review, given in an aircraft for which that pilot is rated, by an authorized instructor during the Albuquerque International Balloon Fiesta. Grant, 9/29/2003, Exemption No. 8135A.

Docket No.: FAA-2001-10289.

Petitioner: EVA Airways Corporation.

Section of 14 CFR Affected: 14 CFR 61.77(a) and (b), and 63.23(a) and (b).

Description of Relief Sought/Disposition: To permit the issuance of U.S. special purpose pilot authorizations and U.S. special purpose flight engineer certificates to airmen employed by EVA Airways Corporation without those airmen meeting the requirements to hold a current foreign certificate or license issued by a foreign contracting State to the Convention on International Civil Aviation, provided the airmen hold appropriate certificates issued by Taiwan's Civil Aeronautics Administration. Grant, 9/30/2003, Exemption No. 6689D.

Docket No.: FAA-2003-14955.

Petitioner: Leading Edge Aviation, Inc.

Section of 14 CFR Affected: 14 CFR 135.143(c)(2).

Description of Relief Sought/Disposition: To permit Leading Edge Aviation, Inc., to operate certain aircraft under part 135 without a TSO-C112 (Mode S) transponder installed in those aircraft. Grant, 9/30/2003, Exemption No.8138.

Docket No.: FAA-2003-14637.

Petitioner: Goodrich Corporation.

Section of 14 CFR Affected: 14 CFR 145.45(f).

Description of Relief Sought/Disposition: To permit the Goodrich Corporation to assign its inspection procedures manual (IPM) to fixed locations in its repair station and make the IPM available electronically to all personnel rather than a paper copy of the IPM to each supervisory and inspection personnel. Grant, 10/1/2003, Exemption No. 8026A.

Docket No.: FAA-2001-8805.

Petitioner: NetJets Sales, Inc.

Section of 14 CFR Affected: 14 CFR 145.45(f).

Description of Relief Sought/Disposition: To permit NetJets Sales, Inc., to place and maintain its inspection procedures manual (IPM) in strategic locations throughout its repair station facility, rather than give a copy of its IPM to each of its supervisory and inspection personnel. Grant, 10/1/2003, Exemption No. 8117A.

Docket No.: FAA-2001-10410.

Petitioner: Columbia Helicopters, Inc.

Section of 14 CFR Affected: 14 CFR 145.45(f).

Description of Relief Sought/Disposition: To permit Columbia Helicopters, Inc., to make its inspection procedures manual (IPM) available electronically or in paper format in fixed locations, rather than give a copy to each of its supervisory and inspection personnel. Grant, 10/1/2003, Exemption No. 7622B.

Docket No.: FAA-2001-10555.

Petitioner: ASTAR Air Cargo, Inc.

Section of 14 CFR Affected: 14 CFR 121.433(c)(1)(iii), 121.441(a)(1) and (b)(1), and appendix F to part 121.

Description of Relief Sought/Disposition: To permit ASTAR Air Cargo, Inc. (ASTAR), to combine recurrent flight and ground training and proficiency checks for ASTAR's flight crewmembers into a single annual training and proficiency evaluation program. Grant, 10/3/2003, Exemption No. 6727C.

Docket No.: FAA-2002-12501.

Petitioner: Butler, Dallas E. et al.

Section of 14 CFR Affected: 14 CFR 121.383(c).

Description of Relief Sought/Disposition: To permit the petitioners to act as pilots in operations conducted under part 121 after reaching their 60th birthdays. Denial, 10/6/2003, Exemption No. 8141.

Docket No.: FAA-2001-10609.

Petitioner: Tulsa Technology Center.

Section of 14 CFR Affected: 14 CFR 65.17(a), 65.19(b), and 65.75(a) and (b).

Description of Relief Sought/Disposition: To permit Tulsa Technology Center (TTC) to administer the FAA oral and practical tests to students at times and places identified in TTC's operations handbook; approve students for retesting within 30 days after failure without requiring a signed statement certifying additional instruction has been given in the failed area; administer the aviation mechanic general written test to students immediately following successful completion of the general curriculum, before they meet the experience requirements of § 65.77; and conduct oral and practical tests as an integral part of the education process rather than conducting the tests on students' successful completion of the written tests. Grant, 10/9/2003, Exemption No. 6569D.

Docket No.: FAA-2002-12931.

Petitioner: Saudi Arabian Airlines Corporation.

Section of 14 CFR Affected: 14 CFR 63.2.

Description of Relief Sought/Disposition: To permit Saudi Arabian Airlines Corporation to be examined for and issued U.S. airmen certificates and rating required to operate its fleet as if Saudi Arabian Airlines Corporation were a certificated U.S. air carrier. Grant, 10/8/2003, Exemption No. 8150.

Docket No.: FAA-2003-15528.

Petitioner: Honeywell International, Inc.

Section of 14 CFR Affected: 14 CFR 21.603(a) and 21.607(d).

Description of Relief Sought/Disposition: To permit Honeywell International Inc., to continue production and support of products for which it has not been granted a Technical Standard Order Authorization (TSOA) during the TSOA application process. Denial, 10/10/2003, Exemption No. 8148.

Docket No.: FAA-2003-14780.

Petitioner: Ronald DiGiovanni.

Section of 14 CFR Affected: 14 CFR 61.113(c).

Description of Relief Sought/Disposition: To permit members of Ronald DiGiovanni's family to cover all of his operating expenses when being carried as passengers on an airplane that he is operating as pilot in command under his private pilot certificate. Denial, 10/10/2003, Exemption No. 8149.

Docket No.: FAA-2003-16111.

Petitioner: Clayton P. Janosek.

Section of 14 CFR Affected: 14 CFR 61.83.

Description of Relief Sought/Disposition: To permit Clayton P. Janosek to obtain a student pilot certificate for operation of an aircraft other than a glider or balloon. Denial, 10/9/2003, Exemption No. 8143.

Docket No.: FAA-2003-16112.

Petitioner: Logan E. Hoff.

Section of 14 CFR Affected: 14 CFR 61.83.

Description of Relief Sought/Disposition: To permit Logan E. Hoff to obtain a student pilot certificate for operation of an aircraft other than a glider or balloon. Denial, 10/9/2003, Exemption No. 8144.

Docket No.: FAA-2003-16129.

Petitioner: Nord Aviation, Inc.

Section of 14 CFR Affected: 14 CFR 135.143(c)(2).

Description of Relief Sought/Disposition: To permit Nord Aviation, Inc., to operate certain aircraft under part 135 without a TSO-C112 (Mode S) transponder installed in those aircraft. Grant, 10/9/2003, Exemption No. 8146.

Docket No.: FAA-2003-16254.

Petitioner: Sunset Aviation, Inc.

Section of 14 CFR Affected: 14 CFR 135.143(c)(2).

Description of Relief Sought/Disposition: To permit Sunset Aviation, Inc., to operate certain aircraft under part 135 without a TSO-C112 (Mode S) transponder installed in those aircraft. Grant, 10/9/2003, Exemption No. 8147.

Docket No.: FAA-2003-16004.

Petitioner: PACE Airlines.

Section of 14 CFR Affected: 14 CFR 91.513(b)(4), and 121.309(b)(4).

Description of Relief Sought/Disposition: To permit PACE Airlines to operate its aircraft with emergency and floatation equipment listed in §§ 121.309, 121.310, 121.339, and 121.340 that are not marked as to the date of last inspection. Denial, 10/9/2003, Exemption No. 8145.

Docket No.: FAA-2001-9371.

Petitioner: Sunrise Airlines, Inc.

Section of 14 CFR Affected: 14 CFR 135.143(c)(2).

Description of Relief Sought/Disposition: To permit Sunrise Airlines, Inc., to operate certain aircraft under part 135 without a TSO-112C (Mode S) transponder installed in those aircraft. Grant, 10/9/2003, Exemption No. 7061B.

Docket No.: FAA-2003-14582.

Petitioner: Brainerd Helicopters, Inc.

Section of 14 CFR Affected: 14 CFR 133.33(d) and (e), and 133.45(d).

Description of Relief Sought/Disposition: To permit Brainerd Helicopters, Inc. to operate its Sikorsky S70C helicopters, a restricted-category helicopter, in external-load operations. Denial, 10/9/2003, Exemption No. 8137.

Docket No.: FAA-2001-10446.

Petitioner: Homestead Helicopters, Inc.

Section of 14 CFR Affected: 14 CFR 135.143(c)(2).

Description of Relief Sought/Disposition: To permit Homestead Helicopters, Inc., to operate certain aircraft under part 135 without a TSO-C112 (Mode S) transponder installed in those aircraft. Grant, 10/14/2003, Exemption No. 6733C.

Docket No.: FAA-2002-11655.

Petitioner: IHC Life Flight.

Section of 14 CFR Affected: 14 CFR 133.45(e)(1).

Description of Relief Sought/Disposition: To permit IHC Life Flight to conduct Class D rotorcraft-load combination rescue operations with an Augusta A 109K-2 helicopter certificated in the normal category under part 27. Grant, 10/14/2003, Exemption No. 7118B.

Docket No.: FAA-2003-15925.

Petitioner: AirTran Airways, Inc.

Section of 14 CFR Affected: 14 CFR 93.123.

Description of Relief Sought/Disposition: To permit AirTran Airways, Inc. to conduct 10 operations at LaGuardia Airport without the required slots. Denial, 10/3/2003, Exemption No. 8139.

Docket No.: FAA-2001-9581.

Petitioner: Goodrich Aviation Technical Services, Inc.

Section of 14 CFR Affected: 14 CFR 145.45(f).

Description of Relief Sought/Disposition: To permit Goodrich Aviation Technical Services, Inc., to make its inspection procedures manual (IPM) available to its supervisory and inspection personnel in lieu of giving a copy of the IPM to each supervisory and inspection personnel. Grant, 10/14/2003, Exemption No. 7024B.

Docket No.: FAA-2003-16270.

Petitioner: Evergreen Helicopters International, Inc.

Section of 14 CFR Affected: 14 CFR 135.143(c)(2).

Description of Relief Sought/Disposition: To permit Evergreen Helicopters International, Inc., to operate certain aircraft under part 135 without a TSO-C112 (Mode S) transponder installed in those aircraft. Grant, 10/16/2003, Exemption No. 8155.

Docket No.: FAA-2001-10831.

Petitioner: Pomona Valley Pilots Association.

Section of 14 CFR Affected: 14 CFR 135.251, 135.255, and 135.353, and appendices I and J to part 121.

Description of Relief Sought/Disposition: To permit the Pomona Valley Pilots Association to conduct local sightseeing flights at Cable Airport, Upland, California, on January 10 and 11, 2004, for compensation or hire, without complying with certain anti-drug and alcohol misuse prevention requirements of part 135.

Grant, 10/16/2003, Exemption No. 8154.

Docket No.: FAA-2002-12010.

Petitioner: Taunton Airport Association, Inc.

Section of 14 CFR Affected: 14 CFR 135.251, 135.255, and 135.353, and appendices I and J to part 121.

Description of Relief Sought/Disposition: To permit the Taunton Airport Association, Inc., to conduct local sight seeing flights at the Taunton Municipal Airport, for its annual charity fundraising event on October 25, 2003, with a rain date of October 26, 2003, for compensation or hire, without complying with certain anti-drug and alcohol misuse prevention requirements of part 135. Grant, 10/16/2003, Exemption No. 8152.

Docket No.: FAA-2002-13888.

Petitioner: Western North Carolina Pilots Association.

Section of 14 CFR Affected: 14 CFR 135.251, 135.255, and 135.353, and appendices I and J to part 121.

Description of Relief Sought/Disposition: To permit the Western North Carolina Pilots Association to conduct local sightseeing flights at the Asheville Regional Airport, Asheville, North Carolina, on October 25, 2003, and October 26, 2003, for compensation or hire, without complying with certain anti-drug an alcohol misuse prevention requirements of part 135. Grant, 10/16/2003, Exemption No. 8153.

Docket No.: FAA-2001-9457.

Petitioner: Century Aviation.

Section of 14 CFR Affected: 14 CFR 135.143(c)(2).

Description of Relief Sought/Disposition: To permit Century Aviation to operate certain aircraft under part 135 without a TSO-C112 (Mode S) transponder installed in those aircraft. Grant, 10/17/2003, Exemption No. 8156.

Docket No.: FAA-2002-11494.

Petitioner: Segrave Aviation, Inc.

Section of 14 CFR Affected: 14 CFR 135.143(c)(2).

Description of Relief Sought/Disposition: To permit Segrave Aviation, Inc., to operate certain aircraft under part 135 without a TSO-C112 (Mode S) transponder installed in those aircraft. Grant, 10/21/2003, Exemption No. 7723A.

Docket No.: FAA-2003-14960.

Petitioner: Mark Gunther.

Section of 14 CFR Affected: 14 CFR 65.77.

Description of Relief Sought/Disposition: To permit Mark Gunther to apply for the FAA mechanic certificate with airframe rating without the required graduation certificate or completion from a certificated Aviation Maintenance Technician School. Denial, 10/14/2003, Exemption No. 8158.

Docket No.: FAA-2001-10469.

Petitioner: United Air Lines, Inc.

Section of 14 CFR Affected: 14 CFR 145.45(f).

Description of Relief Sought/Disposition: To permit United Airlines, Inc., to make one copy of its inspection procedures manual (IPM) available to its supervisory and inspection personnel rather than give a copy of the IPM to each of its supervisory and inspection personnel. Grant, 10/20/2003, Exemption No. 6393D.

Docket No.: FAA-2003-16215.

Petitioner: Arkansas Aviation Technologies Center.

Section of 14 CFR Affected: 14 CFR 65.17(a), 65.19(b), and 65.75(a).

Description of Relief Sought/Disposition: To permit the Arkansas Aviation Technologies Center, under contract to The Aviation Tech Center (TATC) to administer the FAA oral and practical mechanic examinations to students at times and places identified in TATC's FAA-approved operations manual; conduct oral and practical mechanic examinations as an integral part of the education process rather than conducting the tests upon students' successful completion of the mechanic written examinations; allow applicant to apply for retesting within 30 days after failure without presenting a signed statement certifying that additional instruction has been given in the failed area; and administer the Aviation Mechanic General written test to students immediately following successful completion of the general curriculum, prior to meeting the experience requirements of § 65.77. Grant, 10/27/2003, Exemption No. 8162.

Docket No.: FAA-2003-16331.

Petitioner: Minuteman Aviation, Inc.

Section of 14 CFR Affected: 14 CFR 135.143(c)(2).

Description of Relief Sought/Disposition: To permit Minuteman Aviation, Inc., to operate certain aircraft under part 135 without a TSO-C112 (Mode S) transponder installed in those aircraft. Grant, 10/30/2003, Exemption No. 8163.

[FR Doc. 03-30909 Filed 12-12-03; 8:45 am]

BILLING CODE 4910-13-P